DEPARTMENT OF COMMERCE

National Oceanic and Atmospheric Administration

RIN 0648-XD179

Marine Mammals; File No. 18528

AGENCY: National Marine Fisheries Service (NMFS), National Oceanic and Atmospheric Administration (NOAA), Commerce.

ACTION: Notice; receipt of application.

SUMMARY: Notice is hereby given that the NMFS National Marine Mammal Laboratory (Responsible Party: John Bengtson, Ph.D.), 7600 Sand Point Way NE., Seattle, WA 98115-0070, has applied in due form for a permit to conduct research on Steller sea lions (Eumetopias jubatus).

DATES: Written, telefaxed, or email comments must be received on or before April 23, 2014.

ADDRESSES: The application and related documents are available for review by selecting “Records Open for Public Comment” from the Features box on the Applications and Permits for Protected Species (APPS) home page, https://apps.nmfs.noaa.gov, and then selecting File No. 18528 from the list of available applications.

These documents are also available upon written request or by appointment in the following offices:

Permits and Conservation Division, Office of Protected Resources, NMFS, 1315 East-West Highway, Room 13705, Silver Spring, MD 20910; phone (301)427-8401; fax (301)713-0376; and

Alaska Region, NMFS, P.O. Box 21668, Juneau, AK 99802-1668; phone (907)586-7221; fax (907)586-7249.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Tammy Adams, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant proposes to conduct research on the Western distinct population segment (wDPS) and Eastern distinct population segment (eDPS) of Steller sea lions in Alaska, Washington, Oregon, and California to measure population status, vital rates, foraging ecology, habitat requirements, and effects of natural and anthropogenic factors pursuant to fulfilling the NMFS' legal requirements under the MMPA and ESA. Annually in the wDPS, up to 66,000 Steller sea lions may be exposed to aerial surveys by manned or unmanned aircraft, 7,000 to rookery-based activities, and 10,500 to other incidental activities. Up to 595 Steller sea lions could be captured, with up to 345 having blood, skin, and swab samples collected, 395 hot-branded, and up to 145 blubber biopsied, 345 vibrissa removed, and 320 subject to stomach intubation. Instruments will be attached on up to 45, and 245 would receive a non-permanent mark if not hot-branded. Annually in the eDPS, up to 46,000 sea lions may be exposed to aerial surveys, and 13,100 to incidental activities. Up to 40 adult males could be captured, and have blood, hair, and skin samples collected, hot-brand and flipper tags applied, and have an instrument attached. Up to 200 pups would be captured, hot-branded flipper-tagged, swabbed, and skin biopsied, with 50 also having blood and hair samples collected. Non-target species that may be taken incidentally include northern fur seals (Callorhinus ursinus) in Alaska, California sea lions (Zalophus californianus) and northern elephant seals (Mirounga angustirostris) in Washington, Oregon, and California, and harbor seals (Phoca vitulina) in all states. Samples may be exported and re-imported. The requested duration of the permit is five years.

In compliance with the National Environmental Policy Act of 1969 (42 U.S.C. 4321 et seq.), an initial determination has been made that the effects of the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of the application to the Marine Mammal Commission and its Committee of Scientific Advisors.

Dated: March 14, 2014.
Perry F. Gayaldo,
Acting Deputy, Office of Protected Resources, National Marine Fisheries Service.

[FR Doc. 2014-06291 Filed 3-21-14; 8:45 am]

BILLING CODE 3510-22-P